DEPARTMENT OF DEFENSE

Department of the Navy

Notice of Intent To Grant Exclusive Patent License; Allied Communications, LLC

AGENCY: Department of the Navy, DoD.

ACTION: Notice.

SUMMARY: The Department of the Navy hereby gives notice of its intent to grant to Allied Communications, LLC., a revocable, nonassignable, exclusive license to practice in the United States, the Government-owned inventions described in U.S. Patent No. 7,685,207: Adaptive Web-Based Asset Control System, Navy Case No. 83634, issued March 23, 2010.//U.S. Patent application No. 12/650,413: Finite State Machine Architecture For Software Development, Navy Case No. 99,766, filed December 30, 2009.//U.S. Patent No. 8,238,924: Real-Time Optimization of Allocation of Resources, Navy Case No. 99956, issued August 7, 2012.

DATES: Anyone wishing to object to the grant of this license must file written objections along with supporting evidence, if any, not later than January 23, 2013.

ADDRESSES: Written objections are to be filed with Naval Surface Warfare Center, Crane Div, Code OOL, Bldg 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: December 31, 2012.
C. K. Chiappetta,
Lieutenant Commander, Office of the Judge Advocate General, U.S. Navy, Federal Register Liaison Officer.

[FR Doc. 2013-00068 Filed 1-7-13; 8:45 am]

BILLING CODE 3810-FF-P